DEPARTMENT OF HOMELAND SECURITY

[Docket No. DHS-2016-0057]

Critical Infrastructure Partnership Advisory Council

AGENCY: Department of Homeland Security.

ACTION: Notice of Critical Infrastructure Partnership Advisory Council meeting.

SUMMARY: The Critical Infrastructure Partnership Advisory Council (CIPAC) will meet Tuesday, October 18, 2016, at the Crystal Gateway Marriott, Arlington Ballroom, Salon IV, 1700 Jefferson Davis Highway, Arlington, VA 22202. This meeting will be open to the public.

DATES: The CIPAC Plenary will meet on October 18, 2016. The meeting will be held from 10:30 a.m.-5:00 p.m. EDT. The meeting may adjourn early if the committee has completed its business. For additional information about CIPAC, please consult the CIPAC Web site, www.dhs.gov/cipac, or contact the CIPAC Executive Secretariat by phone at 703-603-5087 or by email at CIPAC@hq.dhs.gov.

ADDRESSES: 1700 Jefferson Davis Highway, Arlington, VA 22202.

While this meeting is open to the public, participation in the CIPAC deliberations is limited to committee members, Department of Homeland Security officials, and persons invited to attend the meeting for special presentations.

Immediately following the council member panel discussion period, there will be a limited time period for public comment on only the agenda items as listed in the SUPPLEMENTARY INFORMATION section below. Relevant public comments may be submitted in writing or presented in person for the Council to consider. Be advised that off-topic questions or comments will not be permitted or discussed. In-person presentations will be limited to three minutes per speaker, with no more than 15 minutes for all speakers. Parties interested in presenting in person must register no less than 15 minutes prior to the beginning of the meeting, at the meeting location. Oral presentations will be permitted based upon the order of registration; all registrants may not be able to speak if time does not permit.

Written comments may be sent to Renee Murphy, CIPAC Designated Federal Officer, Department of Homeland Security, National Protection and Programs Directorate, 245 Murray Lane SW., Mail Stop 0607, Arlington, VA 20598-0607. Written comments must be received by Renee Murphy by no later than 5:00 p.m. EDT, October 17, 2016, identified by Federal Register Docket Number DHS-2016-0057 and may be submitted by one of the following methods:

• Federal eRulemaking Portal: http://www.regulations.gov. Follow the instructions for submitting written comments.

• Email: CIPAC@hq.dhs.gov. Include docket number DHS-2016-0057 in the subject line of the message.

• Fax: 703-603-5190.

• Mail: Renee Murphy, Department of Homeland Security, National Protection and Programs Directorate, 245 Murray Lane SW., Mail Stop 0607, Arlington, VA 20598-0607.

Instructions: All written submissions received must include the words “Department of Homeland Security” and the docket number for this action. Written comments received will be posted without alteration at www.regulations.gov, including any personal information provided.

Docket: For access to the docket to read comments received by the CIPAC, go to www.regulations.gov.

FOR FURTHER INFORMATION CONTACT: Cheryl Fenoli, Department of Homeland Security, National Protection and Programs Directorate, Office of Infrastructure Protection, Sector Outreach and Programs Division, Partnership Coordination Section, 245 Murray Lane SW., Mail Stop 0607, Arlington, VA 20598-0607, telephone 703-603-5087 or via email at CIPAC@HQ.DHS.GOV.

SUPPLEMENTARY INFORMATION: The CIPAC Plenary convenes the critical infrastructure owner and operator members of the Sector Coordinating Councils, including their representative trade associations and Federal, State, local, tribal and territorial governmental entities comprising the members of the Government Coordinating Council, including their representative organizations for all sixteen (16) sectors, members of the State, Local, Tribal and Territorial Government Coordinating Council, Regional Consortium Coordinating Council, Critical Infrastructure Cross-Sector Council and representatives of other Federal agencies to include the Federal Senior Leadership Council with responsibility for critical infrastructure activities.

The October 18, 2016 meeting will include council updates and panel discussions between participating members regarding issues relevant to critical infrastructure security and resilience.

Public Meeting Agenda

I. Call to Order/Opening Remarks

II. CIPAC Open/Roll Call of Members

III. Welcome

IV. Joint National Priorities for Critical Infrastructure Security and Resilience Panel Discussion:

a. Strengthen the Management of Cyber and Physical Risks to Critical Infrastructure Security and Resilience

V. Lunch

VI. Joint National Priorities Panel Discussions(continued)

b. Build Capabilities and Coordination for Enhanced Incident Response and Recovery

c. Strengthen Collaboration Across Sectors, Jurisdictions and Disciplines

d. Enhance Effectiveness in Resilience Decision Making

e. Share Information to Improve Prevention, Protection, Mitigation, Response and Recovery Activities

VII. Public Comment Period

VIII. The Way Forward

IX. Adjournment

Information on Services for Individuals With Disabilities

For information on facilities or services for individuals with disabilities or to request special assistance at the meeting, contact the CIPAC Executive Secretariat at 703-603-5087 as soon as possible.

Dated: September 20, 2016.
Renee Murphy,
Designated Federal Officer for the CIPAC.

[FR Doc. 2016-23015 Filed 9-23-16; 8:45 am]

BILLING CODE 9110-9P-P